DEPARTMENT OF HOMELAND SECURITY

Federal Emergency Management Agency

[Docket ID FEMA-2016-0002; Internal Agency Docket No. FEMA-B-1546]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 17, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1546, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies will be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: February 2, 2016.
Roy E. Wright,
Deputy Associate Administrator for Insurance and Mitigation, Department of Homeland Security, Federal Emergency Management Agency.

Community | Community map repository address
Berks County, Pennsylvania (All Jurisdictions)
Maps Available for Inspection Online at: http://www.fema.gov/preliminaryfloodhazarddata
Project: 14-03-2049S Preliminary Date: June 26, 2015
Borough of Bernville | Borough Hall, 6602 Bernville Road, Bernville, PA 19506.
Township of Jefferson | Jefferson Township Office Building, Five Solly Lane, Bernville, PA 19506.
Township of Penn | Penn Township Municipal Building, 840 North Garfield Road, Bernville, PA 19506.
Butler County, Pennsylvania (All Jurisdictions)
Maps Available for Inspection Online at: http://www.fema.gov/preliminaryfloodhazarddata
Project: 06-03-A623S Preliminary Date: October 15, 2015
Township of Adams | Adams Township Municipal Building, 690 Valencia Road, Mars, PA 16046.
Fayette County, Pennsylvania (All Jurisdictions)
Maps Available for Inspection Online at: http://www.fema.gov/preliminaryfloodhazarddata
Project: 06-03-A625S Preliminary Dates: November 24, 2009 and June 27, 2014
Borough of Fayette City | Borough Hall, 340 Second Street, Fayette City, PA 15438.
Cameron County, Texas, and Incorporated Areas
Maps Available for Inspection Online at: http://www.fema.gov/preliminaryfloodhazarddata
Project: 05-06-2027S Preliminary Date: June 4, 2015
City of Brownsville | Building and Permitting Department, 1034 East Levee Street, Brownsville, TX 78520.
City of Harlingen | Lon C. Hill Building, 502 East Tyler Avenue, Harlingen, TX 78550.
City of La Feria | City Hall, 115 East Commercial Avenue, La Feria, TX 78559.
City of Los Fresnos | City Hall, 200 North Brazil Street, Los Fresnos, TX 78566.
City of Los Indios | City Hall, 109 East 6th Street, Los Indios, TX 78567.
City of Port Isabel | City Hall, 305 East Maxan Street, Port Isabel, TX 78578.
City of Rio Hondo | Municipal Building, 121 North Arroyo Boulevard, Rio Hondo, TX 78583.
City of San Benito | Planning and Development Department, 400 North Travis Street, San Benito, TX 78586.
City of Santa Rosa | City Hall, 413 South Santa Cruz Avenue, Santa Rosa, TX 78593.
City of South Padre Island | City Hall, 4601 Padre Boulevard, South Padre Island, TX 78597.
Town of Bayview | Town Office, 104 South San Roman Road, Bayview, TX 78566.
Town of Combes | Town Hall, 21626 Hand Road, Combes, TX 78535.
Town of Indian Lake | Indian Lake Town Hall, 62 South Aztec Cove Drive, Los Fresnos, TX 78566.
Town of Laguna Vista | Town Hall, 122 Fernandez Street, Laguna Vista, TX 78578.
Town of Rancho Viejo | Town Hall, 3301 Carmen Avenue, Rancho Viejo, TX 78575.
Town of Rangerville | Rangerville Town Hall, 31850 Rangerville Road, San Benito, TX 78586.
Unincorporated Areas of Cameron County | Cameron County, San Benito Annex, 1390 West Expressway 83, San Benito, TX 78586.
Willacy County, Texas, and Incorporated Areas
Maps Available for Inspection Online at: http://www.fema.gov/preliminaryfloodhazarddata
Project: 07-06-1392S Preliminary Date: May 28, 2015
Unincorporated Areas of Willacy County | Willacy County Courthouse, 576 West Main Street, Raymondville, TX 78580.

[FR Doc. 2016-03223 Filed 2-16-16; 8:45 am]

BILLING CODE 9110-12-P